DEPARTMENT OF AGRICULTURE

Food Safety and Inspection Service

[Docket No. FSIS-2007-0026]

Public Health Based Inspection System in Poultry Slaughter

AGENCY: Food Safety and Inspection Service, USDA.

ACTION: Notice of public meeting.

SUMMARY: The Food Safety and Inspection Service will hold a public meeting to discuss public health based inspection in poultry slaughter to address Campylobacter, Salmonella, and other issues of public health concern. FSIS is seeking public input on the ideas, concepts, data, and analyses it will use to form the basis of a technical plan. The public meeting will afford FSIS and its stakeholders an opportunity to discuss the rationale and process for the Agency's enhanced approach, as well as the background leading up to its current thinking on the concept.

DATES: FSIS will hold the public meeting on Tuesday, August 7, 2007, 9 a.m. to 1 p.m.

ADDRESSES: The meeting will be held at George Mason University, School of Public Policy, Arlington Original Building, Room 244, 3401 Fairfax Drive, Arlington, Virginia 22201. Directions to the site and the agenda will be posted on the FSIS Web site at http://www.fsis.usda.gov/News_&_Events/Meetings_&_Events/index.asp.

The meeting will be audio cast for those who cannot attend in person. Members of the public are encouraged to pre-register for the meeting. Online registration information and audio information will be located at: http://www.fsis.usda.gov/News_&_Events/Meetings_&_Events/index.asp.

FSIS welcomes comments on the topics to be discussed at the public meeting. The Agency's technical papers relating to the topic will be posted at: http://www.fsis.usda.gov/News_&_Events/Meetings_&_Events/index.asp.

Comments on these papers and questions may be submitted by any of the following methods:

Electronic mail: An electronic mail box has been established specifically for risk-based inspection (RBI) comments for the public meeting on August 7. Comments may be submitted to: riskbasedinspection@fsis.usda.gov.

Mail, including floppy disks or CD-ROMs: Send to Ellyn Blumberg, RBI Public Meeting, United States Department of Agriculture, Food Safety and Inspection Service, 14th & Independence Avenue, SW., Mail Drop 405 Aerospace, Washington, DC 20250.

Hand- or courier-delivered items: Deliver to Ellyn Blumberg at 901 D Street, SW., Washington, DC. Have security guard call (202) 690-6520.

Facsimile: Fax documents to (202) 690-6519.

All submissions received must include the Agency name and docket number FSIS-2007-0026. The comments also will be posted on the Agency's Web site at: http://www.fsis.usda.gov/regulations_&_policies/Risk_Based_Inspection/.

FOR FURTHER INFORMATION CONTACT: Keith Payne for technical information at (202) 690-6522 or e-mail keith.payne@fsis.usda.gov; Sally Fernandez for meeting information at (202) 690-6524, Fax (202) 690-6519, or e-mail sally.fernandez@fsis.usda.gov. Persons requiring a sign language interpreter or other special accommodations should notify the Agency contacts no later than July 26, 2007, at the numbers above or by e-mail.

SUPPLEMENTARY INFORMATION:

Background

The Food Safety and Inspection Service (FSIS) is the public health regulatory agency in the U.S. Department of Agriculture responsible for ensuring that the nation's commercial supply of meat, poultry, and egg products is safe, wholesome, and correctly labeled and packaged. FSIS is accountable for protecting the lives and well-being of 295 million U.S. citizens and millions more around the world.

To meet the realities of food safety and public health challenges, FSIS intends to enhance its inspection system and to develop and implement new, science-based policies. FSIS is considering proposing a new inspection system in poultry slaughter establishments that will improve public health. Although rulemaking is not expected immediately, FSIS is seeking public input on the ideas, concepts, data, and analyses that it will use to form the basis for a technical plan and in the development of a future proposed rule.

The Agency's thinking has evolved and benefited from its experience with the Hazard Analysis and Critical Control Point (HACCP)-based Inspection Models Project (HIMP). The new system will be designed to provide more time and more flexibility than the current systems for FSIS personnel to conduct focused, off-line verification activities according to risk factors at each establishment and at points in slaughter and processing where food safety hazards and associated risks may be introduced. The public meeting will afford FSIS and its stakeholders an opportunity to discuss the rationale and process for the Agency's enhanced approach, as well as for the Agency to present the background that has led the Agency to its current thinking on the concept. In addition, the Agency will present the scientific foundations for future decision-making, including how to address Salmonella and Campylobacter and the use of generic E. coli as an indicator of process control.

All interested parties are welcome to attend the meeting and to submit written comments and suggestions through September 7, 2007. The comments and the official transcript of the meeting, when they become available, will be posted on the Agency's Web site at: http://www.fsis.usda.gov/regulations_&_policies/Risk_Based_Inspection/. All comments received in response to this notice will be considered part of the public record.

Additional Public Notification

Public awareness of all segments of rulemaking and policy development is important. Consequently, in an effort to ensure that minorities, women, and persons with disabilities are aware of this notice, FSIS will announce it online through the FSIS Web site located at: http://www.fsis.usda.gov/regulations/2007_Notices_Index/.

FSIS also will make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade and farm groups, consumer interest groups, allied health professionals, and other individuals who have asked to be included. The Update is available on the FSIS Web site. Through the Listserv and Web site, FSIS is able to provide information to a much broader and more diverse audience. In addition, FSIS offers an e-mail subscription service, which provides automatic and customized access to selected food safety news and information. This service is available at: http://www.fsis.usda.gov/news_and_events/email_subscription/. Subscription service options include recalls and export information, as well as regulations, directives, and notices. Customers can add or delete subscriptions themselves and have the option to password protect their account.

Done at Washington, DC, on: July 26, 2007.
Alfred V. Almanza,
Administrator.

[FR Doc. E7-14805 Filed 7-30-07; 8:45 am]

BILLING CODE 3410-DM-P